DEPARTMENT OF ENERGY

Federal Energy Regulatory Commission

[Project No. 10489-013]

River Falls Municipal Utilities; Notice of Intent To File License Application, Filing of Pre-Application Document, and Approving Use of the Traditional Licensing Process

a. Type of Filing: Notice of Intent to File License Application and Request to Use the Traditional Licensing Process.

b. Project No.: 10489-013.

c. Date Filed: November 27, 2013.

d. Submitted By: River Falls Municipal Utilities.

e. Name of Project: River Falls Hydroelectric Project.

f. Location: On the Kinnickinnic River, in Pierce county, Wisconsin.

g. Filed Pursuant to: 18 CFR 5.3 of the Commission's regulations.

h. Potential Applicant Contact: Brian Hatch, City of River Falls, 222 Lewis Street, River Falls, WI 54022; (715) 425-0906; email—bhatch@rfcity.org.

i. FERC Contact: Bryan Roden-Reynolds at (202) 502-6618; or email at bryan.roden-reynolds@ferc.gov.

j. River Falls Municipal Utilities filed its request to use the Traditional Licensing Process on November 27, 2013, and provided public notice of its request on December 5, 2013. In a letter dated January 27, 2014, the Director of the Division of Hydropower Licensing approved River Falls Municipal Utilities' request to use the Traditional Licensing Process.

k. With this notice, we are initiating informal consultation with: (a) The U.S. Fish and Wildlife Service under section 7 of the Endangered Species Act and the joint agency regulations thereunder at 50 CFR, Part 402; and (b) the Wisconsin State Historic Preservation Officer, as required by section 106, National Historical Preservation Act, and the implementing regulations of the Advisory Council on Historic Preservation at 36 CFR 800.2.

l. With this notice, we are designating River Falls Municipal Utilities as the Commission's non-federal representative for carrying out informal consultation, pursuant to section 7 of the Endangered Species Act, and section 106 of the National Historic Preservation Act.

m. River Falls Municipal Utilities filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: January 27, 2014.
Kimberly D. Bose,
Secretary.

[FR Doc. 2014-02130 Filed 1-31-14; 8:45 am]

BILLING CODE 6717-01-P